DEPARTMENT OF JUSTICE

Office of Justice Programs

Agency Information Collection Activities: Proposed Collection; Comments Requested

ACTION: 30-Day notice of information collection under review: new collection categorical assistance progress report.

The Department of Justice (DOJ), Office of Justice Programs, (OJP) has submitted the following information collection request to the Office of Management and Budget (OMB) for review and approval in accordance with the Paperwork Reduction Act of 1995. The proposed information collection is published to obtain comments from the public and affected agencies. This proposed information collection was previously published in the Federal Register (Volume 66, Number 125, pages 34461-34462 on June 28, 2001, allowing for a 60 day comment period.

The purpose of this notice is to allow for an additional 30 days for public comment until November 13, 2001. This process is conducted in accordance with 5 CFR 1320.10. Written comments and/or suggestions regarding the items contained in this notice, especially the estimated public burden and associated response time, should be directed to The Office of Management and Budget, Office of Information and Regulatory Affairs, Attention Department of Justice Desk Officer, Washington, DC 20503. Additional, comments may be submitted to OMB via facsimile to (202) 395-7285.

Written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of information collection: New collection.

(2) The title of the form/collection: Categorical Assistance Progress Report.

(3) The agency form number, if any, and the applicable component of the Department sponsoring the collection: The form number is OJP Form 45871/1, Office of Justice Programs, United States Department of Justice.

(4) Affected public who will be asked or required to respond, as well as a brief abstract: Primary: Federal Government, Local or Tribal. Other: Individuals or households; not-for-profit institutions.

The Uniform Administrative Requirements for grants and Cooperative Agreements—28 CFR, part 66, and OMB Circular A-110—authorizes the Department of Justice to collect information from grantees to report on project activities and project accomplishments. Grantees that are recipients of discretionary grant (and some formula grant) programs are required by OJP program offices to submit Categorical Assistance Progress Reports on project activities and accomplishments. It is expected that reports will include data appropriate to this stage of project development and in sufficient detail to provide a clear idea and summary of work and accomplishments to date. Progress reports are primarily designed to aid grant managers in carrying out their responsibilities for monitoring grant-support activities. The major focus of these reports is the progress achieved on each task in relation to the approved schedule and project milestones for that reporting period. The grantee's review of the project, its functions, and activities are included in the progress report. Generally, progress reports are brief (normally less than five pages) and are in chart form, narrative form, or both. Grantees must include the following information in progress reports submitted to the OJP grant manager: Description of the progress made during the reporting period toward accomplishing goals and objectives.

Changes in the overall project, its objectives, time schedule, organization, or staffing for the period. Favorable developments or events which enable the grantee to meet time schedules or milestones sooner than anticipated. Any problems, delays, or adverse conditions which have affected or will affect the ability on the grantee to attain project objectives, including the timely submission of products. Accomplishments during reporting period, such as statistics on measurable project outcomes (e.g., number of people trained, manuals produced, etc.).

Need for technical assistance relating to programmatic or financial issues. Next steps; and other pertinent information including, where appropriate, analysis and explanation of expenditures.

(5) An estimate of the total number of respondents and the amount of time estimated for an average respondent to respond/reply: It is estimated that 10,366 grantees will each take approximately two hours to complete each semi-annual submission of their Categorical Assistance Progress Report form for a total of four hours annually per grantee. A progress report is required from the grantee for each current grant.

(6) An estimate of the total public burden (in hours) associated with the collection: The total hour burden to complete the progress report forms is 41,464 hours.

If additional information is required contact: Brenda E. Dyer, Department Deputy Clearance Officer, Information Management and Security Staff, Justice Management Division, United States Department of Justice, 601 D Street NW., Patrick Henry Building, Suite 1600, NW., Washington, DC 20530.

Dated: October 4, 2001.
Brenda E. Dyer,
Department Clearance Officer, United States Department of Justice.

[FR Doc. 01-25489 Filed 10-10-01; 8:45 am]

BILLING CODE 4410-18-M